DEPARTMENT OF LABOR

Office of the Secretary

Presidential Task Force on Employment of Adults With Disabilities (PTFEAD) Youth Advisory Committee; Notice of Open Meeting and Agenda

AGENCY: Office of the Secretary, Labor.

ACTION: Notice of meeting.

SUMMARY: The Office of the Secretary, United States Department of Labor, is notifying the public that the Youth Advisory Committee to the Presidential Task Force on Employment of Adults with Disabilities will conduct an open meeting on Monday, August 12, 2002 in Washington, DC.

DATE: The Youth Advisory Committee will meet from 9 a.m. until approximately 4 p.m., on Monday, August 12 at the Hyatt Regency Bethesda, One Bethesda Metro Center, 7400 Wisconsin Avenue, Bethesda, Maryland, 20814.

FOR FURTHER INFORMATION CONTACT: Dr. Richard Horne, Senior Policy Advisor, Presidential Task Force on Employment of Adults with Disabilities (phone: (202) 693-4923; TTY (202) 693-4920; FAX (202) 693-4929; e-mail Horne-Richard @dol.gov).

SUPPLEMENTARY INFORMATION: The meeting will be open to the public. Because of time constraints, oral testimony from the public will not be possible. Anyone wishing to do so, however, may submit a written statement. Written statements should be kept as brief as possible. The Committee is interested in comments and suggestions for future directions related to the following areas: Employment; Education; Health Care and Income Supports; Transportation, Housing, Independent Living, and Public Awareness. Written submissions received prior to the meeting will be provided to the members of the committee and will be included in the record of the meeting. To ensure that a written statement is received in time to be part of the record of the meeting, the statement should be mailed to the contact person at least five business days prior to the meeting. People with disabilities who need special accommodations should contact Dr. Richard Horne (phone: (202) 693-4923; TTY (202) 693-4920; FAX (202) 693-4929; e-mail Horne-Richard@dol.gov) no later than one week before the meeting.

The agenda for this meeting includes:

—Report out on work of subcommittees.

—Discussion and vote by entire committee on which subcommittee recommendations will be included in the committee's final report.

An official record of the meeting will be available for public inspection in Room S 1303 of the Department of Labor Building (Francis Perkins Building) located at 200 Constitution Avenue, NW. , Washington, DC 20210. For additional information contact Dr. Richard Horne (phone: (202) 693-4923; FAX (202) 693-4929; or e-mail Horne-Richard@dol.gov)

Signed at Washington, DC, this 23rd day of July, 2002.
Gary Reed,
Acting Executive Director, Presidential Task Force on Employment of Adults with Disabilities.

[FR Doc. 02-19123 Filed 7-26-02; 8:45 am]

BILLING CODE 4510-23-P